DEPARTMENT OF THE INTERIOR

Bureau of Reclamation

Los Vaqueros Reservoir Expansion Investigation, Contra Costa County, CA

AGENCY: Bureau of Reclamation, Interior.

ACTION: Notice of intent to prepare an Environmental Impact Statement (EIS).

SUMMARY: Pursuant to section 102(2)(c) of the National Environmental Policy Act (NEPA), the Department of the Interior, Bureau of Reclamation (Reclamation) will prepare an EIS to evaluate expanding the existing Los Vaqueros Reservoir and alternatives to improve water supply reliability and water quality for Bay Area water users, particularly those receiving water from the Sacramento-San Joaquin Delta; and contribute to lower cost implementation of the CALFED Environmental Water Account (EWA). Pursuant to the California Environmental Quality Act, Contra Costa Water District will prepare an EIR on the proposed project concurrent with the EIS preparation. A joint EIS/EIR document will be prepared.

Reclamation was directed in Public Law 108-7, (Omnibus Appropriations Act of 2003) to conduct a feasibility-level investigation of the potential expansion of Los Vaqueros Reservoir.

DATES: Four scoping meetings will be held to solicit public input on the scope of the environmental document, alternatives, concerns and issues to be addressed in the EIS. The scoping meeting dates are:

• Tuesday, January 24, 2006, 1:30 to 3:30 p.m., Sacramento, CA.

• Tuesday, January 24, 2006, 6 to 8 p.m. Antioch, CA.

• Wednesday January 25, 2006, 6 to 8 p.m., Livermore, CA.

• Thursday, January 26, 2006, 6 to 8 p.m., Concord, CA.

Submit written comments on the scope of the environmental document to Reclamation at the address below by February 28, 2006.

ADDRESSES: The scoping meeting locations are:

• Sacramento—Department of Water Resources, the Bonderson Building, 901 P Street, Public Hearing Room first floor, Sacramento, CA 95814.

• Antioch—Legion Hall, Veteran's Memorial Building 403 West 6th Street, Antioch, CA 94509.

• Livermore—Martinelli Event Center, Agricultural Center, 3585 Greenville Road, Livermore, CA 94550.

• Concord—Contra Costa Water District, 1331 Concord Ave., Concord, CA 94520.

Written comments on the scope of the environmental document should be sent to Ms. Patricia Roberson, Bureau of Reclamation, Mid Pacific Regional Office, 2800 Cottage Way, Sacramento CA 95825-1898; by e-mail at proberson@mp.usbr.gov; or faxed to (916) 978-5094. Further information on the investigation, including the interim results, can be found at http://www.usbr.gov/mp/vaqueros/.

FOR FURTHER INFORMATION CONTACT: Patricia Roberson, Reclamation Project Manager at the above address, (916) 978-5074; or Ms. Marguerite Naillon, Project Manager, Contra Costa Water District, P.O. Box H2O, Concord, CA 94524, (925) 688-8018. If you would like to be included on the EIS/EIR mailing list, please contact Jennifer Allen, CirclePoint, at (415) 227-1100 ext. 33 or j.allen@circlepoint.com.

SUPPLEMENTARY INFORMATION:

Background

One of the five potential surface storage projects described in the CALFED Bay-Delta Program's long-term plan is the expansion of the existing Los Vaqueros Reservoir, an existing 100,000-acre-foot off-stream surface storage facility, located in Contra Costa County, California. The existing facility is owned and operated by the Contra Costa Water District (CCWD).

The primary study area includes the Los Vaqueros Reservoir watershed and associated dam and reservoir facilities, which are situated in the coastal foothills west of the Delta and east of the Bay Area, the central and south Delta, and service areas of Bay Area water agencies that may be directly affected by the project. The Bay Area water agencies that may be directly affected include Contra Costa Water District, Alameda County Water District, Santa Clara Valley Water district, and Alameda County Flood Control and Water Conservation District—Zone 7. Due to the potential influence on other programs and projects, an extended study area is defined to include the service area of the San Francisco Public Utilities Commission and the Central Valley of California.

Planning studies to date have focused on identifying water resources problems, needs, and opportunities in the primary study area, developing a set of planning objectives to help guide the remainder of the feasibility study, and formulating a set of initial alternatives. These elements of the study are summarized below.

Problems, Needs, and Opportunities

Water Supply Reliability. Deliveries of imported water to the Bay Area for drinking water supply are significantly reduced during dry years and critically dry years. Periods of multiple dry years can also occur, such as the droughts of 1928-1935 and 1976-1977, and most recently 1987-1992. These dry periods cause most local supplies, such as groundwater and locally stored runoff, to be depleted. At the same time, deliveries of imported water from the SWP and CVP are curtailed. Bay Area water agencies need to improve water supply reliability not only to reduce deficiencies during a drought, but also as an alternative supply in case of a catastrophic event or emergency in the Delta, such as a chemical spill or levee failure.

Environmental Opportunities. The Sacramento/San Joaquin Delta is the largest estuary on the West Coast and provides essential habitat for a diverse array of fish and wildlife. A variety of factors have contributed to the decline of fish species in the Delta, including the loss of habitat and water resources development. Water deliveries from the Delta have been curtailed in recent years to help protect threatened and endangered fish populations and their habitats. However, while pumping curtailments and other actions in the Delta have been beneficial to fish, they often have had adverse impacts on cities, farms, and businesses that depend on water supplies pumped from or through the Delta. Consequently, the Environmental Water Account (EWA) was developed to provide water project operators with additional flexibility in meeting or exceeding fishery requirements in the Delta.

Water Quality. Although State water quality standards have been maintained, the quality of water supplies from the Delta has generally declined because of salinity intrusion resulting from water resources development; polluted runoff from urban, agricultural, and other development; and changes to the physical environment. Because Bay Area water agencies typically blend water from various sources to attain a desired quality, water quality in the study area is a function of both water source and volume. Water providers in the study area use imported supplies from the Delta and local groundwater and surface water supplies.

Planning Objectives

The planning objectives identified below were developed based on the problems, needs, and opportunities in the study area.

• Increase water supply reliability for water providers within the study area, principally to help meet municipal and industrial water demands during drought periods, with a focus on enlarging Los Vaqueros Reservoir.

• Use an expanded Los Vaqueros Reservoir to develop replacement water supplies for the long-term EWA, if the cost of water provided from an expanded reservoir is found to be less than the cost of water for continued implementation of that program.

• To the extent possible through pursuit of the water supply reliability and environmental water objectives, improve the quality of water deliveries to municipal and industrial customers in the study area.

In addition to the study objectives, various planning constraints, principles, and criteria were identified and are being used to help guide the investigation. These criteria include the Contra Costa Water District's principles of participation.

Initial Alternatives

From the Planning Objectives, a number of water resources management measures were identified. The most effective of these measures were used to formulate a set of initial alternatives. The initial action alternatives, still under refinement, include the following elements:

• Different ways to increase reservoir capacity: Raise the existing dam in-place or replace it completely with a new dam;

• Different ways/points of connection to deliver water to Bay Area users via facilities of the State Water Project;

• Different reservoir expansion sizing and operations geared to meet the project objectives: Water supply reliability, EWA needs, and/or water quality.

Specific measures and combinations of measures in these initial alternatives will likely change in future studies and some may be combined with others or dropped from further consideration. Other measures and combinations of measures may emerge during the scoping process and warrant development into alternatives. In addition to the action alternatives, the No Action alternative will also be evaluated. Additional information on these initial alternatives is contained in the Los Vaqueros Expansion Investigation, California, Initial Alternatives Information Report at http://www.usbr.gov/mp/vaqueros/.

Additional Information

The environmental review will be conducted pursuant to NEPA, the Endangered Species Act, and other applicable Federal law, to analyze the potential environmental impacts of implementing a range of feasible alternatives, including Los Vaqueros Reservoir expansion. Public input on the range of alternatives to be considered will be sought through the initial public scoping meetings.

Our practice is to make comments, including names and home addresses of respondents, available for public review. Individual respondents may request that we withhold their home addresses from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Frank Michny,
Regional Environmental Officer, Mid-Pacific Region.

[FR Doc. E5-7541 Filed 12-19-05; 8:45 am]

BILLING CODE 4310-MN-P